DEPARTMENT OF TRANSPORTATION

Federal Aviation Administration

Notice of Intent To Rule on Application To Impose and Use the Revenue From a Passenger Facility Charge (PFC) at Monterey Peninsula Airport, Monterey, CA

AGENCY: Federal Aviation Administration (FAA), DOT.

ACTION: Notice of intent to rule on application.

SUMMARY: The FAA proposes to rule and invites public comment on the application to impose and use the revenue from a PFC at Monterey Peninsula Airport under the provisions of the 49 U.S.C. 40117 and part 158 of the Federal Aviation Regulations (14 CFR part 158).

DATES: Comments must be received on or before January 18, 2005.

ADDRESSES: Comments on this application may be mailed or delivered in triplicate to the FAA at the following address: Federal Aviation Administration, Airports Division, 15000 Aviation Blvd., Lawndale, CA 90261, or San Francisco Airports District Office, 831 Mitten Road, Room 210, Burlingame, CA 94010-1303. In addition, one copy of any comments submitted to the FAA must be mailed or delivered to Mr. Dominic T. Stuth, Grants and Planning Administrator, Monterey Peninsula Airport District, at the following address: 200 Fred Kane Drive, Suite 200, Monterey, CA, 93940. Air carriers and foreign air carriers may submit copies of written comments previously provided to the Monterey Peninsula Airport District under section 158.23 of part 158.

FOR FURTHER INFORMATION CONTACT: Joseph Rodriguez, Environmental Planning and Compliance Section Supervisor, San Francisco Airports District Office, 831 Mitten Road, Room 210, Burlingame, CA 94010-1303, Telephone: (650) 876-2778, extension 610. The application may be reviewed in person at this same location.

SUPPLEMENTARY INFORMATION: The FAA proposes to rule and invites public comment on the application to impose and use the revenue from a PFC at Monterey Peninsula Airport under the provisions of the 49 U.S.C. 40117 and part 158 of the Federal Aviation Regulations (14 CFR part 158).

On December 10, 2004, the FAA determined that the application to impose and use the revenue from a PFC submitted by the Monterey Peninsula Airport District was substantially complete within the requirements of section 158.25 of Part 158. The FAA will approve or disapprove the application, in whole or in part, no later than March 22, 2005.

The following is a brief overview of the impose and use application.

No. 05-11-C-00-MRY:

Level of Proposed PFC: $4.50.

Proposed Charge Effective Date: March 1, 2005.

Proposed Charge Expiration Date: September 1, 2011.

Total Estimated PFC Revenue: $957,132.

Brief Description of the Proposed Projects: Terminal Passenger Circulation and Building Improvements, Airport Rescue and Fire Fighting Equipment, and Terminal Elevator.

Class or Classes of Air Carriers Which the Public Agency Has Requested Not Be Required To Collect PFCs: Non-Scheduled On-Demand Air Carriers (formerly Air Taxi/Commercial Operators) filing FAA Form 1800-31.

Any person may inspect the application in person at the FAA office listed above under FOR FURTHER INFORMATION CONTACT and at the FAA Regional Airports Division located at: Federal Aviation Administration, Airports Division, 15000 Aviation Blvd., Lawndale, CA 90261. In addition, any person may, upon request, inspect the application, notice and other documents germane to the application in person at the Monterey Peninsula Airport District.

Issued in Lawndale, California, on December 10, 2004.
John P. Milligan,
Supervisor, Programming Section, Western-Pacific Region.

[FR Doc. 04-27694 Filed 12-16-04; 8:45 am]

BILLING CODE 4901-13-M